DEPARTMENT OF HOMELAND SECURITY

Office of the Secretary

United States Visitor and Immigrant Status Indicator Technology Program (“US-VISIT”); Notice to Aliens Subject to US-VISIT Screening

AGENCY: Office of the Secretary, DHS.

ACTION: Notice.

SUMMARY: This Notice identifies the port of entry of Fresno, California, the sea port of entry of New Orleans, Louisiana, and the pre-flight inspection location of Halifax, Nova Scotia, Canada, as locations at which the Department of Homeland Security will begin biometric screening of arriving aliens using the United States Visitor and Immigrant Status Indicator Technology Program.

EFFECTIVE DATES: This notice is effective August 15, 2006 for Fresno, California, on or before October 1, 2006, for Halifax, Nova Scotia, Canada and October 15, 2006, for New Orleans, Louisiana.

FOR FURTHER INFORMATION CONTACT: Mark Rouse or Craig Howie, Senior Policy Advisors, US-VISIT, Department of Homeland Security, 1616 Fort Myer Drive, 18th Floor, Arlington, Virginia 22209, (202) 298-5200.

SUPPLEMENTARY INFORMATION: On January 5, 2004, the Department of Homeland Security (DHS) established the United States Visitor and Immigrant Status Indicator Technology (US-VISIT) Program in accordance with several statutory mandates that collectively require DHS to create an integrated, automated biometric entry and exit system that records the arrival and departure of aliens; verifies the identities of aliens; and authenticates travel documents presented by such aliens through the comparison of biometric identifiers. Aliens subject to US-VISIT may be required to provide fingerscans, photographs, or other biometric identifiers upon arrival in, or departure from, the United States. See 69 FR 468 (Jan. 5, 2004) and 69 FR 53318 (Aug. 31, 2004) for information on the background, legal mandates, and legal requirements of the US-VISIT Program. Additional information on US-VISIT and the most up-to-date list of ports of entry where US-VISIT is operational can be found on the Internet at http://www.dhs.gov/dhspublic/display?theme=91.

DHS regulations at 8 CFR 235.1(d)(1)(ii) note that DHS will designate by notice in the Federal Register ports of entry where aliens will be required to provide fingerscans, photograph(s), or other specified biometric identifiers during the inspection process when applying for entry or admission into the United States. This notice fulfills the requirements of 8 CFR 235.1(d)(1)(ii).

This Notice makes no changes to existing US-VISIT requirements, processes, or classifications of aliens subject to or exempt from US-VISIT biometric screening. This Notice merely identifies additional ports of entry and a pre-flight inspection location that will be using US-VISIT biometric screening.

US-VISIT biometric screening will begin at Fresno, Halifax, and New Orleans as follows:

Fresno, California (Fresno-Yosemite International Airport), which will begin biometric screening on August 15, 2006.

Halifax, Nova Scotia, Canada (Halifax International Airport, Pre-Flight Inspection), which will begin biometric screening on or before October 1, 2006. Halifax is the eighth pre-flight screening location in Canada to use US-VISIT biometric screening.

New Orleans, Louisiana (Erato Street Cruise Terminal), which will begin biometric screening on October 15, 2006.

DHS notes the date of October 1, 2006, for Halifax is an estimate. It is possible that the pre-flight inspection facilities in Halifax will be ready prior to October 1, 2006. Should Halifax pre-flight inspection be ready before October 1, 2006, or if the opening of this pre-flight inspection facility is delayed beyond October 1, 2006, a revised estimated start date will be posted on the US-VISIT Internet site at the address noted above. Further, DHS will communicate the exact date Halifax will begin US-VISIT biometric screening directly to local area news media, civic organizations, and the transportation and travel industry once that date has been established.

Dated: August 7, 2006.
Michael Chertoff,
Secretary.

[FR Doc. E6-13299 Filed 8-14-06; 8:45 am]

BILLING CODE 4410-10-P